EXPORT-IMPORT BANK

Notice of Open Meeting the Advisory Committee of the Export-Import Bank of the United States (EXIM)

Time and Date: Wednesday, October 30, 2019 from 11:00 a.m. until 2:30 p.m. (EDT).

Place: 811 Vermont Avenue NW, Room 1126, Washington, DC 20571.

Agenda: Discussion of EXIM programs and comments for inclusion in the report on competitiveness of the Export-Import Bank of the United States to Congress.

Public Participation: The meeting will be open to public participation, and time will be allotted for oral questions or comments. Members of the public may also file written statement(s) before or after the meeting. If you plan to attend, a photo ID must be presented at the guard's desk as part of the clearance process into the building, you may contact India Walker at external@exim.gov to be placed on an attendee list. If any person wishes auxiliary aids (such as a sign language interpreter) or other special accommodations, please email India Walker at external@exim.gov no later than 5:00 p.m. EDT on Monday, October 28, 2019.

Members of the Press: For members of the Press planning to attend the meeting, a photo ID must be presented at the guard's desk as part of the clearance process into the building please email external@exim.gov to be placed on an attendee list.

Further Information: For further information, contact the External Engagement team, at external@exim.gov.

Joyce Stone,
Program Specialist, Office of the General Counsel.

[FR Doc. 2019-22262 Filed 10-10-19; 8:45 am]

BILLING CODE 6690-01-P